DEPARTMENT OF COMMERCE

International Trade Administration

[C-533-902]

Organic Soybean Meal From India: Final Results of Countervailing Duty Administrative Review; 2023

AGENCY: Enforcement and Compliance, International Trade Administration, Department of Commerce.

SUMMARY: The U.S. Department of Commerce (Commerce) determines that certain exporters/producers of organic soybean meal from India received countervailable subsidies during the period of review (POR) January 1, 2023, through December 31, 2023.

DATES: Applicable February 26, 2026.

FOR FURTHER INFORMATION CONTACT: Isaiah Kahn, AD/CVD Operations, Office VII, Enforcement and Compliance, International Trade Administration, U.S. Department of Commerce, 1401 Constitution Avenue NW, Washington, DC 20230; telephone: (202) 482-8328.

SUPPLEMENTARY INFORMATION:

Background

On June 18, 2025, Commerce published in the Federal Register the Preliminary Results of this administrative review and invited interested parties to comment.¹ On September 18, 2025, we extended the time limits for these final results to November 17, 2025.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ On January 14, 2026, Commerce extended the time limits for these final results to February 17, 2026.⁵ On February 10, 2026 Commerce again extended the time period for issuing the final results of this review by 7 days.⁶ Accordingly, the deadline for these final results is now February 23, 2026.

¹ See Organic Soybean Meal from India: Preliminary Results and Partial Rescission of Countervailing Duty Administrative Review; 2023, 90 FR 25994 (June 18, 2025) (Preliminary Results), and accompanying Preliminary Decision Memorandum.

² See Memorandum, “Extension of Deadline for Final Results,” September 18, 2025.

³ See Memorandum, “Deadlines Affected by the Shutdown of the Federal Government,” dated November 14, 2025.

⁴ See Memorandum, “Tolling of all Case Deadlines,” dated November 24, 2025.

⁵ See Memorandum, “Extension of Deadline for Final Results,” dated January 14, 2026.

⁶ See Memorandum, “Extension of Deadline for Final Results,” dated February 10, 2026.

For a complete description of the events that occurred since the Preliminary Results, see the Issues and Decision Memorandum.⁷ The Issues and Decision Memorandum is a public document and is on file electronically via ACCESS. ACCESS is available to registered users at https://access.trade.gov. In addition, a complete version of the Issues and Decision Memorandum can be accessed directly at https://access.trade.gov/public/FRNoticesListLayout.aspx.

⁷ See Memorandum, “Issues and Decision Memorandum for the Final Results of the Countervailing Duty Administrative Review of Organic Soybean Meal from India; 2023,” dated concurrently with, and hereby adopted by, this notice (Issues and Decision Memorandum).

Scope of the Order ⁸

⁸ See Organic Soybean Meal from India: Countervailing Duty Order, 87 FR 29735 (May 16, 2022) (Order).

The product covered by this Order is organic soybean meal from India. For a full description of the scope of the Order, see the Issues and Decision Memorandum.

Analysis of Comments Received

All issues raised by the interested parties in their case and rebuttal briefs are addressed in the Issues and Decision Memorandum. The topics discussed and the issues raised by parties to which we responded in the Issues and Decision Memorandum are listed in the appendix to this notice.

Methodology

Commerce conducted this administrative review in accordance with section 751(a)(l)(A) of the Tariff Act of 1930, as amended (the Act). For each of the subsidy programs found to be countervailable, we find that there is a subsidy, i.e., a government-provided financial contribution that gives rise to a benefit to the recipient, and that the subsidy is specific.⁹ In these final results, Commerce relied, in part, on facts otherwise available, with an adverse inference (AFA), pursuant to sections 776(a) and (b) of the Act. For a complete description of the methodology underlying all of Commerce's conclusions, see the Issues and Decision Memorandum.

⁹ See sections 771(5)(B) and (D) of the Act regarding financial contribution; section 771(5)(E) of the Act regarding benefit; and section 771(5A) of the Act regarding specificity.

Changes Since the Preliminary Results

Based on our analysis of comments from interested parties, we made no changes to the net countervailable subsidy rate of Tejawat Organic Foods (Tejawat). However, for these final results, we have revised the total AFA rate applied to Ecopure Specialities Limited's (Ecopure). For a complete description of the methodology underlying all of Commerce's conclusions, see the Issues and Decision Memorandum and Ecopure's AFA Memorandum.¹⁰

¹⁰ For a full description of these revisions, see the Issues and Decision Memorandum; see also Memorandum, “Ecopure AFA Memorandum,” dated February 23, 2026 (Ecopure's AFA Memorandum).

Rate for Non-Selected Companies Under Review

The statute and Commerce's regulations do not address the establishment of a rate to be applied to companies not selected for individual examination when Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate the all-others rate equal to the weighted average of the countervailable subsidy rates established for exporters and producers individually investigated, excluding any zero or de minimis countervailable subsidy rates, and any rates determined entirely on the basis of facts available.

There is one company, Vinod Kumar Ranjeet Singh Bafna. (Vinod), for which a review was requested, which had reviewable entries, and which was not selected as mandatory respondent or found to be cross-owned with a mandatory respondent. In this review, Commerce assigned a rate based entirely on facts available to Ecopure. Therefore, the only rate that is not zero, de minimis, or based entirely on facts otherwise available is the rate calculated for Tejawat. Thus, for these final results, we continue to assign the rate calculated for Tejawat as the rate for Vinod, the only company under review that was not selected for individual examination.

Final Results

We find the following net countervailable subsidy rates exist for the period January 1, 2023, through December 31, 2023:

Company | Subsidy rate (percent ad valorem)
Ecopure Specialities Limited | 75.48
Tejawat Organic Foods | 3.66
Vinod Kumar Ranjeet Singh Bafna | 3.66

Disclosure

Commerce intends to disclose its calculations and analysis performed in connection with the final results to interested parties within five days of its public announcement, or if there is no public announcement, within five days of the date of publication of this notice, in accordance with 19 CFR 351.224(b).

Assessment Rates

In accordance with section 751(a)(2)(C) of the Act and 19 CFR 351.212(b)(2), Commerce shall determine, and U.S. Customs and Border Protection (CBP) shall assess, countervailing duties on all appropriate entries of subject merchandise covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for each of the companies listed above for shipments of subject merchandise entered, or withdrawn from warehouse for consumption on or after the date of publication of the final results of this administrative review. For all non-reviewed firms, we will instruct CBP to continue to collect cash deposits of estimated countervailing duties at the all-others rate or most recent company-specific rate applicable to the company, as appropriate. These cash deposit requirements, when imposed, shall remain in effect until further notice.

Administrative Protective Order

This notice also serves as the final reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

The final results are issued and published in accordance with sections 751(a)(1) and 777(i)(1) of the Act, and 19 CFR 351.221(b)(5).

Dated: February 23, 2026.
Scot Fullerton,
Acting Deputy Assistant Secretary for Antidumping and Countervailing Duty Operations.

Appendix

List of Topics Discussed in the Issues and Decision Memorandum

I. Summary

II. Background

III. Scope of the Order

IV. Changes Since the Preliminary Results

V. Rate for Non-Selected Company Under Review

VI. Subsidies Valuation

VII. Use of Facts Otherwise Available and Application of Adverse Inferences

VIII. Analysis of Programs

IX. Discussion of the Issues

Comment 1: Whether Commerce Should Apply Total Adverse Facts Available (AFA) to Ecopure

Comment 2: Whether Commerce Should Apply Partial AFA to Tejawat

X. Recommendation

[FR Doc. 2026-03894 Filed 2-25-26; 8:45 am]

BILLING CODE 3510-DS-P